DEPARTMENT OF VETERANS AFFAIRS

[OMB Control No. 2900-0671]

Agency Information Collection Activities Under OMB Review

AGENCY: Veterans Benefits Administration, Department of Veterans Affairs.

ACTION: Notice.

SUMMARY: In compliance with the Paperwork Reduction Act (PRA) of 1995 (44 U.S.C. 3501-21) this notice announces that the Veterans Benefits Administration (VBA), Department of Veterans Affairs, has submitted the collection of information abstracted below to the Office of Management and Budget (OMB) for review and comment. The PRA submission describes the nature of the information collection and its expected cost and burden and includes the actual data collection instrument.

DATES: Comments must be submitted on or before July 10, 2006.

FOR FURTHER INFORMATION CONTACT: Denise McLamb, Records Management Service (005G2), Department of Veterans Affairs, 810 Vermont Avenue, NW., Washington, DC 20420, (202) 565-8374, FAX (202) 565-6950 or e-mail: denise.mclamb@mail.va.gov. Please refer to “OMB Control No. 2900-0671.”

Send comments and recommendations concerning any aspect of the information collection to VA's OMB Desk Officer, OMB Human Resources and Housing Branch, New Executive Office Building, Room 10235, Washington, DC 20503, (202) 395-7316. Please refer to “OMB Control No. 2900-0671” in any correspondence.

SUPPLEMENTARY INFORMATION: Title: Traumatic Injury Protection (TSGLI).

OMB Control Number: 2900-0671.

Type of Review: Extension of currently approved collection.

Abstract: Service members who experienced a traumatic injury such as loss of limbs on or after October 7, 2001 through November 30, 2005 are eligible to receive Traumatic Injury Protection benefits if the loss was incurred during Operation Enduring Freedom or Operation Iraqi Freedom. TSGLI provides severely injured service members and the member's family with monetary assistance through an often long and difficult rehabilitation period. The service members must be insured under the Servicemembers' Group Life Insurance to be eligible for TSGLI. The service member, the attending physician, the branch of service must complete Prudential Form GL.2005.261, Certification of Traumatic Injury Protection in order for the service member to receive such benefits. VA uses the data collected to determine the member's eligibility for TSGLI benefits.

An agency may not conduct or sponsor, and a person is not required to respond to a collection of information unless it displays a currently valid OMB control number. The Federal Register Notice with a 60-day comment period soliciting comments on this collection of information was published on February 8, 2006 at pages 6539-6540.

Affected Public: Individuals or households.

Estimated Annual Burden: 475 hours.

Estimated Average Burden Per Respondent: 30 minutes.

Frequency of Response: One-time.

Estimated Number of Respondents: 950.

Dated: May 25, 2006.
By direction of the Secretary.
Denise McLamb,
Program Analyst, Records Management Service.

[FR Doc. E6-8889 Filed 6-7-06; 8:45 am]

BILLING CODE 8320-01-P